DEPARTMENT OF THE INTERIOR

National Park Service

Environmental Assessment for Proposed Improvements Within Jones Point Park Under the Woodrow Wilson Bridge Project

AGENCY: National Park Service.

ACTION: Availability of the Environmental Assessment (EA) for the proposed mitigation to Jones Point Park (JPP), associated with the Woodrow Wilson Bridge project. JPP is an approximately 60-acre park owned by the National Park Service (NPS) under the jurisdiction of the George Washington Memorial Parkway (GWMP) located in the southeastern corner of the City of Alexandria, Virginia.

SUMMARY: Pursuant to Council on Environmental Quality regulations and NPS policy, the NPS announces the availability of an EA for the proposed mitigation to JPP, associated with the Woodrow Wilson Bridge project within the GWMP. The EA examines several alternatives aimed to develop a long-range plan for JPP, identify desired resource conditions and visitor experiences, consider feasible alternatives for future development of JPP and provide educational and recreational opportunities for visitors while protecting park resources. The need of the proposed action is based on the lack of a current comprehensive management plan for JPP and the need for mitigation and protection of park resources and recreational opportunities for visitors in conjunction with the Woodrow Wilson Bridge Project. The NPS is soliciting comments on this EA. These comments will be considered in evaluating it and making decisions pursuant to the National Environmental Policy Act.

DATES: The EA will remain available for public comment 30 days from the date of publication in the Federal Register. Written comments should be received no later than this date.

ADDRESSES: If you wish to comment, you may submit your comments by any one of several methods. You may mail comments to: Ms. Audrey F. Calhoun, Superintendent, George Washington Memorial Parkway, Turkey Run Park, McLean, Virginia 22101. You may hand deliver comments to GWMP Headquarters, Turkey Run Park, McLean, Virginia. Our practice is to make comments, including names and home addresses of respondents, available for public review during regular business hours. Individual respondents may request that we withhold their home addresses from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety. The EA will be available for public inspection at several libraries in Alexandria, Fairfax and Arlington, Virginia.

SUPPLEMENTARY INFORMATION: This EA for JPP is tiered, i.e., procedurally connected to the large-scale Woodrow Wilson Bridge Project Environmental Impact Statement (EIS). Specifically, this EA addresses the impacts of improvements to JPP, relative to a 1984 Development Concept Plan, as well as a part of the mitigation measures outlined in the 2000 Record of Decision and 1997 Memorandum of Agreement (MOA) required for the Woodrow Wilson Bridge Project. The 1997 MOA was prepared by the Federal Highway Administration in consultation with the NPS, the Maryland State Historic Preservation Office (SHPO), the Virginia SHPO, the District of Columbia SHPO, the Advisory Council for Historic Preservation, and representatives of a number of other concurring parties. JPP contains many recreational amenities such as soccer fields, natural areas, fishing piers, historic resources, pedestrian trails, and bike paths. The park is traversed by the Woodrow Wilson Bridge, which is currently being considered in a larger EIS for safety improvements. The proposed improvements to JPP are divided into several areas including a park entrance area along South Royal Street; a woodland area on the north side of the park; an active recreation area north of the Woodrow Wilson Bridge; a waterfront area along the Potomac River and Hunting Creek; a parking and ancillary active recreation area under the bridge; and a passive/interpretive area south of the bridge. All interested individuals, agencies, and organizations are urged to provide comments on the EA. The NPS, in making a final decision regarding this matter, will consider all comments received by the closing date.

FOR FURTHER INFORMATION CONTACT: Mr. Dan Sealy (703) 289-2531.

Audrey F. Calhoun,
Superintendent, George Washington Memorial Parkway.

[FR Doc. 01-29095 Filed 11-20-01; 8:45 am]

BILLING CODE 4310-70-P